FEDERAL RESERVE SYSTEM

Agency Information Collection Activities: Announcement of Board Approval Under Delegated Authority and Submission to OMB

AGENCY: Board of Governors of the Federal Reserve System.

SUMMARY: Background

Notice is hereby given of the final approval of proposed information collections by the Board of Governors of the Federal Reserve System (Board) under OMB delegated authority, as per 5 CFR 1320.16 (OMB Regulations on Controlling Paperwork Burdens on the Public). Board-approved collections of information are incorporated into the official OMB inventory of currently approved collections of information. Copies of the OMB 83-Is and supporting statements and approved collection of information instrument(s) are placed into OMB's public docket files. The Federal Reserve may not conduct or sponsor, and the respondent is not required to respond to, an information collection that has been extended, revised, or implemented on or after October 1, 1995, unless it displays a currently valid OMB control number.

FOR FURTHER INFORMATION CONTACT: Federal Reserve Board Clearance Officer -- Michelle Long -- Division of Research and Statistics, Board of Governors of the Federal Reserve System, Washington, DC 20551 (202-452-3829).

OMB Desk Officer -- Mark Menchik -- Office of Information and Regulatory Affairs, Office of Management and Budget, New Executive Office Building, Room 10235, Washington, DC 20503, or e-mail to mmenchik@omb.eop.gov.

Final approval under OMB delegated authority of the extension for three years, without revision, of the following reports:

1. Report title: Recordkeeping and Disclosure Requirements Associated with Loans Secured by Real Estate Located in Flood Hazard Areas Pursuant to Section 208.25 of Regulation H.

Agency form number: Reg H-2.

OMB control number: 7100-0280.

Frequency: Event-generated.

Reporters: State member banks.

Annual reporting hours: 122,413 hours.

Estimated average hours per response: Notice of special flood hazards to borrowers and servicers, 0.08 hours; notice to the Federal Emergency Management Agency (FEMA) of servicer, 0.08 hours; notice to FEMA of change of servicer, 0.08 hours; and retention of standard FEMA form, 0.04 hours.

Number of respondents: 910.

General description of report: This information collection is mandatory (12 U.S.C. 248(a)(1)). Because the Federal Reserve does not collect any of FEMA forms this information collection is not given confidential treatment. However, should any of these records come into the possession of the Federal Reserve, such information may be protected from disclosure by exemption 4 and 6 of the Freedom of Information Act (5 U.S.C. 552(b)(4) and (b)(6)).

Abstract: Regulation H requires state member banks to notify a borrower and servicer when loans secured by real estate are determined to be in a special flood hazard area and notify them whether flood insurance is available; notify FEMA of the identity of, and any change of, the servicer of a loan secured by real estate in a special flood hazard area; and retain a completed copy of the Standard Flood Hazard Determination Form used to determine whether property securing a loan is in a special flood hazard area.

2. Report title: Recordkeeping, Reporting, and Disclosure Requirements in Connection with Regulation BB (Community Reinvestment Act).

Agency form number: Reg BB.

OMB control number: 7100-0197.

Frequency: Annually.

Reporters: State member banks.

Annual reporting hours: 85,234 hours.

Estimated average hours per response: Recordkeeping Requirement, small business and small farm loan register, 219 hours. Optional Recordkeeping Requirements, consumer loan data, 326 hours; other loan data, 25 hours. Reporting Requirements, assessment area delineation, 2 hours; small business and small farm loan data, 8 hours; community development loan data, 13 hours; and HMDA out of MSA loan data, 253 hours. Optional Reporting Requirements, data on lending by a consortium or third party, 17 hours; affiliate lending data, 38 hours; strategic plan, 275 hours; and request for designation as a wholesale or limited purpose bank, 4 hours. Disclosure Requirement, public file, 10 hours.

Number of respondents: 914.

Abstract: This submission covers an extension of the Federal Reserve's currently approved information collections in their CRA regulations (12 CFR part 228). The submission involves no change to the regulation or to the information collection.

The Federal Reserve System needs the information collected to fulfill their obligations under the CRA (12 U.S.C. 2901 et seq.) to evaluate and assign ratings to the performance of institutions, in connection with helping to meet the credit needs of their communities, including low- and moderate-income neighborhoods, consistent with safe and sound banking practices. The Federal Reserve System uses the information in the examination process and in evaluating applications for mergers, branches, and certain other corporate activities. Financial institutions maintain and provide the information to the Federal Reserve System.

Board of Governors of the Federal Reserve System, December 21, 2005.
Jennifer J. Johnson
Secretary of the Board.

[FR Doc. E5-7836 Filed 12-23-05; 8:45 am]

BILLING CODE 6210-01-S